Title 3—

The President

Proclamation 7963 of November 18, 2005

Thanksgiving Day, 2005

By the President of the United States of America

A Proclamation

Thanksgiving Day is a time to remember our many blessings and to celebrate the opportunities that freedom affords. Explorers and settlers arriving in this land often gave thanks for the extraordinary plenty they found. And today, we remain grateful to live in a country of liberty and abundance. We give thanks for the love of family and friends, and we ask God to continue to watch over America.

This Thanksgiving, we pray and express thanks for the men and women who work to keep America safe and secure. Members of our Armed Forces, State and local law enforcement, and first responders embody our Nation's highest ideals of courage and devotion to duty. Our country is grateful for their service and for the support and sacrifice of their families. We ask God's special blessings on those who have lost loved ones in the line of duty.

We also remember those affected by the destruction of natural disasters. Their tremendous determination to recover their lives exemplifies the American spirit, and we are grateful for those across our Nation who answered the cries of their neighbors in need and provided them with food, shelter, and a helping hand. We ask for continued strength and perseverance as we work to rebuild these communities and return hope to our citizens.

We give thanks to live in a country where freedom reigns, justice prevails, and hope prospers. We recognize that America is a better place when we answer the universal call to love a neighbor and help those in need. May God bless and guide the United States of America as we move forward.

NOW, THEREFORE, I, GEORGE W. BUSH, President of the United States of America, by virtue of the authority vested in me by the Constitution and laws of the United States, do hereby proclaim Thursday, November 24, 2005, as a National Day of Thanksgiving. I encourage all Americans to gather together in their homes and places of worship with family, friends, and loved ones to reinforce the ties that bind us and give thanks for the freedoms and many blessings we enjoy.

IN WITNESS WHEREOF, I have hereunto set my hand this eighteenth day of November, in the year of our Lord two thousand five, and of the Independence of the United States of America the two hundred and thirtieth.

B

[FR Doc. 05-23287

Filed 11-22-05; 8:45 am]

Billing code 3195-01-P